PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995.

DATES: Submit comments on or before November 12, 2024.

ADDRESSES: Comments should be addressed to James Olin, FOIA/Privacy Act Officer. James Olin can be contacted by email at pcfr@peacecorps.gov or by telephone at (202) 692-2507. Email comments must be made in text and not in attachments.

FOR FURTHER INFORMATION CONTACT: James Olin, Peace Corps, at pcfr@peacecorps.gov or by telephone at (202) 692-2507.

SUPPLEMENTARY INFORMATION:

Title: Supplemental Intelligence Background Questions.

OMB Control Number: 0420-pending.

Type of Request: New information collection.

Affected Public: Individuals or households.

Respondents Obligation To Reply: Required to obtain or retain benefits.

Burden to the Public:

a. Number of respondents: 250.

b. Frequency of response: One time.

c. Completion time: 15 minutes.

d. Annual burden hours: 62.5 hours.

General Description of Collection: The Peace Corps uses the Intelligence Background Questionnaire to determine what kind of intelligence connection an applicant or an applicant's relative might have and how close an applicant and a relative with an intelligence connection are. This form is a supplement to the Intelligence Background Questionnaire (OMB Control Number 0420-0551) which requires additional information to determine whether the intelligence connection is substantial enough to prevent the person from being employed at the Peace Corps or being a Volunteer for the Peace Corps permanently or for a set period of time from the last intelligence connection. If an applicant disagrees with the Peace Corps' determination, he or she may appeal the determination to the Director of the Peace Corps.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on September 5, 2024.
James Olin,
FOIA/Privacy Act Officer.

[FR Doc. 2024-20422 Filed 9-9-24; 8:45 am]

BILLING CODE 6051-01-P